DEPARTMENT OF AGRICULTURE

Grain Inspection, Packers and Stockyards Administration

Partial Cancellation of Fremont Grain Inspection Department Inc. Designation; Selection of Interim Provider; Opportunity for Designation in the Fremont, NE Area

AGENCY: Grain Inspection, Packers and Stockyards Administration, USDA.

ACTION: Notice.

SUMMARY: Fremont Grain Inspection Department, Inc. (Fremont) is designated to provide official inspection service through June 30, 2016, under the United States Grain Standards Act (USGSA), as amended. Fremont informed the Grain Inspection, Packers and Stockyards Administration (GIPSA) that it wanted to cancel its designation for part of their geographic area to include: Clay county (west of U.S. Route 71), Dickinson county (west of U.S. Route 71), O'Brien county (north of County Road B24 and east of U.S. Route 59), and Osceola county (east of U.S. Route 59). GIPSA announced the interim availability for the geographic area and selected Sioux City Inspection and Weighing Service Company as the interim provider effective August 1, 2013 until a permanent designee is selected. Accordingly, GIPSA is asking persons or governmental agencies interested in providing official services in part of the geographical area presently assigned to Fremont to submit an application for designation.

DATES: Applications must be received by September 19, 2013.

ADDRESSES: Submit applications and comments concerning this notice using any of the following methods:

• Applying for Designation on the Internet: Use FGISOnline (https://fgis.gipsa.usda.gov/default_home_FGIS.aspx) and then click on the Delegations/Designations and Export Registrations (DDR) link. You will need to obtain an FGISOnline customer number and USDA eAuthentication username and password prior to applying.

• Submit Comments Using the Internet: Go to Regulations.gov (http://www.regulations.gov). Instructions for submitting and reading comments are detailed on the site.

• Mail, Courier or Hand Delivery: Eric J. Jabs, Chief, USDA, GIPSA, FGIS, QACD, QADB, 10383 North Ambassador Drive, Kansas City, MO 64153.

• Fax: Eric J. Jabs, 816-872-1257.

• Email: Eric.J.Jabs@usda.gov.

Read Applications and Comments: All applications will be available for public inspection at the office above during regular business hours (7 CFR 1.27(c)).

FOR FURTHER INFORMATION CONTACT: Eric J. Jabs, 816-659-8408 or Eric.J.Jabs@usda.gov.

SUPPLEMENTARY INFORMATION: Section 79(f) of the United States Grain Standards Act (USGSA) authorizes the Secretary to designate a qualified applicant to provide official services in a specified area after determining that the applicant is better able than any other applicant to provide such official services (7 U.S.C. 79 (f)). Under section 79(g) of the USGSA, designations of official agencies are effective for three years unless terminated by the Secretary, but may be renewed according to the criteria and procedures prescribed in section 79(f) of the USGSA.

Area Open for Designation

Pursuant to Section 79(f)(2) of the United States Grain Standards Act, the following geographic area, in the State of Iowa, is assigned to this official agency.

In Iowa

Clay county (west of U.S. Route 71), Dickinson county (west of U.S. Route 71), O'Brien county (north of County Road B24 and east of U.S. Route 59), and Osceola county (east of U.S. Route 59).

Opportunity for Designation

Interested persons or governmental agencies may apply for designation to provide official services in the geographic areas specified above under the provisions of section 79(f) of the USGSA and 7 CFR 800.196. Designation in the specified geographic area is for a period of no more than three years and will be concurrent with any existing designation. To apply for designation or for more information, contact Eric J. Jabs at the address listed above or visit GIPSA's Web site at http://www.gipsa.usda.gov.

We consider applications, comments, and other available information when determining which applicants will be designated.

Authority: 7 U.S.C. 71-87k.

Marianne Plaus,
Acting Administrator, Grain Inspection, Packers and Stockyards Administration.

[FR Doc. 2013-20322 Filed 8-19-13; 8:45 am]

BILLING CODE 3410-KD-P